NUCLEAR REGULATORY COMMISSION

[Docket No. 72-1051; NRC-2018-0052]

Holtec International; HI-STORE Consolidated Interim Storage Facility

AGENCY: Nuclear Regulatory Commission.

ACTION: License; issuance.

SUMMARY: The U.S. Nuclear Regulatory Commission (NRC) has issued Materials License No. SNM-2516 to Holtec International (Holtec) to construct and operate the HI-STORE Consolidated Interim Storage Facility (CISF) as proposed in its license application, as amended, and to receive, possess, store, and transfer spent nuclear fuel at the HI-STORE CISF in Lea County, New Mexico. Holtec will be required to operate under the conditions listed in Materials License No. SNM-2516. The NRC staff has published a record of decision (ROD) that supports the NRC's decision to approve Holtec's license application for the HI-STORE CIS Facility and to issue the license.

DATES: May 12, 2023.

ADDRESSES: Please refer to Docket ID NRC-2018-0052 when contacting the NRC about the availability of information regarding this document. You may access publicly available information related to this document using any of the following methods:

• Federal Rulemaking Website: Go to https://www.regulations.gov and search for Docket ID NRC-2018-0052. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may access publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document. In addition, for the convenience of the reader, the ADAMS accession numbers are provided in a table in the “Availability of Documents” section of this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

FOR FURTHER INFORMATION CONTACT: Jose Cuadrado, Office of Nuclear Material Safety and Safeguards, U.S. Nuclear Regulatory Commission, Washington, DC 20555-0001; telephone: 301-415-0606; email: Jose.Cuadrado-Caraballo@nrc.gov.

SUPPLEMENTARY INFORMATION:

I. Discussion

The NRC has issued a license to Holtec for its HI-STORE CISF in Lea County, New Mexico (ADAMS Package Accession No. ML23075A179). Materials License No. SNM-2516 authorizes Holtec to construct and operate its facility as proposed in its license application, as amended, and to receive, possess, store, and transfer spent nuclear fuel at the HI-STORE CISF. The license authorizes Holtec to store up to 8,680 metric tons of uranium [9,568 short tons] of spent nuclear fuel for a license period of 40 years. Holtec will be required to operate under the conditions listed in Materials License No. SNM-2516.

The NRC staff's ROD that supports the NRC's decision to approve Holtec's license application for the HI-STORE CIS Facility and to issue Materials License No. SNM-2516 is available in ADAMS under Accession No. ML23061A129. The ROD satisfies the regulatory requirement in section 51.102 paragraph (a) of title 10 of the Code of Federal Regulations (10 CFR), which requires that a Commission decision on any action for which a final environmental impact statement (EIS) has been prepared be accompanied by or include a concise public ROD. As discussed in the ROD, the final EIS for Holtec's license application for a CISF for spent nuclear fuel in Lea County, New Mexico (ADAMS Accession No. ML22181B094), and Supplement 1 (ADAMS Accession No. ML22299A238), the NRC staff considered a range of reasonable alternatives that included the No-Action alternative, as required by the National Environmental Policy Act of 1969, as amended; storage at a government-owned CISF; alternative design and storage technologies; and alternative locations. The final EIS documents the environmental review, including the NRC staff's recommendation to issue an NRC license to Holtec to construct and operate a CISF for spent nuclear fuel at the proposed location, subject to the determinations in the NRC staff's safety review of the application. The final EIS conclusion is based on the NRC staff's independent environmental review, as well as (i) the license application, which includes the environmental report and supplemental documents and Holtec's responses to the NRC staff's requests for additional information; (ii) consultation with Federal, State, Tribal, and local agencies and input from other stakeholders, including members of the public; and (iii) the assessments provided in the final EIS.

The NRC staff prepared a final safety evaluation report that documents the staff's safety and security review of the application (ADAMS Accession No. ML23075A183). The staff's safety and security review found that the application met applicable NRC regulations in 10 CFR part 72, “Licensing Requirements for the Independent Storage of Spent Nuclear Fuel, High-Level Radioactive Waste, and Reactor-Related Greater than Class C Waste.”

Documents related to the application carry Docket ID NRC-2018-0052 and NRC-2018-0055. These documents for the Holtec license include the license application, the applicant's safety analysis report, emergency plan, physical security plan, environmental report, updates to these documents, and applicant supplements and responses to NRC staff requests for additional information, and the NRC staff's final safety evaluation report, final EIS, and ROD.

Holtec's request for a materials license was previously noticed in the Federal Register on March 19, 2018 (83 FR 12034). A notice with an opportunity to request a hearing and to petition for leave to intervene was published in the Federal Register on July 16, 2018 (83 FR 32919). Six groups of petitioners filed petitions to intervene. An Atomic Safety and Licensing Board considered the petitions and its corresponding contentions. The Board determined that none of the petitions met the criteria for admissibility and terminated the adjudicatory proceeding. Intervenors appealed the decisions to the Commission, and the Commission, in several orders, affirmed all of the Board decisions.

In issuing a materials license to Holtec for the HI-STORE CISF, the NRC has determined based on its review of this application that there is reasonable assurance that: (i) the activities authorized by the license can be conducted without endangering the health and safety of the public; and (ii) these activities will be conducted in compliance with the applicable regulations of 10 CFR part 72. The NRC has further determined that the issuance of the license will not be inimical to the common defense and security.

In accordance with 10 CFR 2.390 of the NRC's “Rules of Practice,” the details with respect to this action, including the final safety evaluation report and accompanying documentation and license, are available electronically in the ADAMS Public Documents collection at https://www.nrc.gov/reading-rm/adams.html. From this site, you can access ADAMS, which provides text and image files of the NRC public documents.

II. Availability of Documents

The documents identified in the following table are available to interested persons through one or more of the following methods, as indicated.

| Document description | ADAMS accession No.
1 | Initial license application, dated March 30, 2017 | ML17115A431 (package).
2 | Applicant response to request for supplemental information, dated October 6, 2017 | ML17310A218 (package).
3 | Applicant response to request for supplemental information, dated December 21, 2017 | ML17362A097 (package).
4 | Applicant response to request for supplemental information, dated December 22, 2017 | ML18011A158.
5 | License application, dated February 23, 2018 | ML18058A617 (package).
6 | Applicant response to first round request for additional information, part 1, dated May 24, 2018 | ML18150A319 (package).
7 | Applicant response to first round request for additional information, part 1, dated July 27, 2018 | ML18213A206 (package).
8 | Applicant supplemental response to first round request for additional information, part 1, dated May 11, 2021 | ML21131A199 (package).
9 | Applicant response to first round request for additional information, part 2, dated November 30, 2018 | ML18345A153 (package).
10 | Applicant response to first round request for additional information, part 2, dated January 31, 2019 | ML19037A280 (package).
11 | Applicant response to first round request for additional information, part 3, dated March 30, 2019 | ML19094A271.
12 | Applicant response to first round request for additional information, part 3, dated March 30, 2019 | ML19106A183 (package).
13 | Applicant safeguards information, supplemental response to request for additional information, dated March 2, 2020 | ML20065H155.
14 | Applicant response to first round request for additional information, part 4, dated March 15, 2019 | ML19081A083 (package).
15 | Applicant response to first round request for additional information, part 4, July 19, 2019, follow-up, dated August 26, 2019 | ML19248C140 (package).
16 | Applicant response to December 26, 2019, emergency response plan clarification request for additional information, dated June 1, 2020 | ML20153A783 (package).
17 | Applicant response to first round request for additional information, part 5, dated June 1, 2020 | ML20153A777 (package).
18 | Applicant response to first round request for additional information, part 5, dated September 16, 2020 | ML20260H139 (package).
19 | Applicant response to first round request for additional information, part 6, dated October 9, 2020 | ML20283A789 (package).
20 | Applicant response, supporting information, to first round request for additional information, part 6, dated October 9, 2020 | ML20290A465.
21 | Applicant response to first round request for additional information, part 6, dated November 20, 2020 | ML20326A005 (package).
22 | Applicant response to first round request for additional information, part 6, dated January 4, 2021 | ML21004A241 (package).
23 | U.S. Army Corps of Engineers, Regulatory Program, Approved Jurisdictional Determination Form (Interim), Navigable Waters Protection Rule, dated April 1, 2021 | ML21155A229.
24 | Applicant response to second round request for additional information, part 1, dated June 30, 2021 | ML21224A105 (package).
25 | Applicant response to second round request for additional information, part 2, dated August 16, 2021 | ML21228A201 (package).
26 | Applicant response to second round request for additional information, part 2, dated August 31, 2021 | ML21243A525 (package).
27 | Applicant supplemental response to second round request for additional information, dated October 29, 2021 | ML21304A003 (package).
28 | Applicant response to third round request for additional information, dated April 15, 2022 | ML22108A114 (package).
29 | Applicant response to third round request for additional information, dated August 15, 2022 | ML22227A156 (package).
30 | Applicant supplemental response to third round request for additional information, dated November 23, 2022 | ML22331A002 (package).
31 | Applicant supplemental response to third round request for additional information, dated December 23, 2022 | ML22357A117 (package).
32 | Applicant supplemental response to third round request for additional information, dated January 20, 2023 | ML23020A128 (package).
33 | NUREG-2237, “Environmental Impact Statement for the Holtec International's License Application for a Consolidated Interim Storage Facility for Spent Nuclear Fuel and High Level Waste” Draft Report for Comment, dated March 2020 | ML20069G420.
34 | Overview of the Draft Environmental Impact Statement, dated March 2020 | ML20073P254.
35 | Overview of the Draft Environmental Impact Statement (Spanish language version), dated April 2020 | ML20120A522.
36 | NUREG-2237 “Environmental Impact Statement for the Holtec International's License Application for a Consolidated Interim Storage Facility for Spent Nuclear Fuel in Lea County, New Mexico” Final Report, dated July 2022 | ML22181B094.
37 | NUREG-2237, Supplement 1, “Environmental Impact Statement for Holtec International's License Application for a Consolidated Interim Storage Facility for Spent Nuclear Fuel in Lea County, New Mexico”, dated October 2022 | ML22299A238.
38 | Final Safety Evaluation Report for the HI-STORE Consolidated Interim Storage Facility Independent Spent Fuel Storage Installation Specific Materials License No. SNM-2516, dated May 2023 | ML23075A183.
39 | NRC Staff's Record of Decision, dated May 9, 2023 | ML23061A129.
40 | Materials License for Holtec International, dated May 9, 2023 | ML23075A179 (package).

For the Nuclear Regulatory Commission.
Dated: May 9, 2023.
Shana R. Helton,
Director, Division of Fuel Management, Office of Nuclear Material Safety and Safeguards.

[FR Doc. 2023-10162 Filed 5-11-23; 8:45 am]

BILLING CODE 7590-01-P